DEPARTMENT OF HOMELAND SECURITY

Coast Guard

33 CFR Part 100, 110, and 165

[Docket Number USCG-2025-0707]

RIN 1625-AA08, AA01, AA87

Special Local Regulation, Temporary Anchorage Ground Suspension, and Safety and Security Zones: Sail Boston, 250th Anniversary 2026; Boston Harbor, Boston, MA

AGENCY: Coast Guard, Department of Homeland Security.

ACTION: Notice of proposed rulemaking.

SUMMARY: The Coast Guard is proposing to establish temporary regulations, including special local regulations and multiple safety and security zones, and to temporarily suspend certain anchorage grounds in Boston Harbor, Boston, MA between July 10 and July 16, 2026. These regulations are necessary to promote the safe navigation of vessels and safety of life during `Sail Boston,' a gathering of tall ships and military ships to celebrate the 250th Anniversary of the founding of the United States. We invite your comments on this proposed rulemaking.

DATES: Comments and related material must be received by the Coast Guard on or before April 13, 2026. The dates for the stays and temporary sections are listed in the SUPPLEMENTARY INFORMATION section.

ADDRESSES: To submit comments and view available documents, go to https://www.regulations.gov and search for USCG-2025-0707.

FOR FURTHER INFORMATION CONTACT: If you have questions about this proposed rulemaking, call or email: Mr. Craig Lapiejko, Waterways Management, Coast Guard Northeast District, telephone 571-607-6314, email craig.d.lapiejko@uscg.mil or call or email Mr. Timothy Chase U.S Coast Guard Sector Boston Waterways Management at (617) 447-1620 or email timothy.w.chase@uscg.mil.

SUPPLEMENTARY INFORMATION:

I. Table of Abbreviations

BNM Broadcast Notice to Mariners

CFR Code of Federal Regulations

COTP Captain of the Port, Sector Boston

CGD-NE Coast Guard Northeast District Commander

DHS Department of Homeland Security

FR Federal Register

LNM Local Notice to Mariners

MA Massachusetts

NPRM Notice of Proposed Rulemaking

§ Section

U.S.C. United States Code

TFR Temporary Final Rule

II. Background and Authority

Sail250®, a series of events which celebrates the 250th anniversary of the United States of America, has been designated as a Marine Event of National Significance under Coast Guard regulations.¹ Among this series of events is a multiport tall ships tour, which includes the ports of New Orleans, LA; Norfolk, VA; Baltimore, MD, and New York City, NY, and which ends at the Port of Boston. Additional information about Sail250® can be found at https://www.sail250.org/.

¹ 46 CFR 26.03-8.

The Boston event, `Sail Boston,' is being held from July 11, 2026, through July 16, 2026. It will commence with the arrival and anchoring of the tall ships to Broad Sound, Massachusetts Bay, MA on July 10th, 2026. The Sail Boston Tall Ship Parade of Sail into Boston Harbor will occur on July 11th, 2026, with participating tall ships mooring in various berths throughout the Port of Boston, MA until their departure on July 16th, 2026. There will also be tours of visiting United States Naval Vessels and foreign naval vessels. In addition, we anticipate making the existing Fan Pier Safety Zone (codified at 33 CFR 165.119(a)(3)), subject to enforcement for a fireworks display on July 11, and July 15, between 9:15 p.m. and 10:30 p.m.

In 1992, 2000, 2009, 2012 and 2017, events similar to those which are the subject of this Notice of Proposed Rulemaking (NPRM) drew several hundred thousand spectators by land, as well as by water, to Boston Harbor. Among them were `Sail Boston' 1992, 2000, 2009, 2017, and `War of 1812' in 2012. Based on experience with these past events, the Coast Guard anticipates that thousands of spectator craft will attend the `Sail Boston' events this year. Due to the likely high concentration of spectator and participant vessels attending the series of events, the Coast Guard Northeast District Commander (CGD-NE) and the Captain of the Port, Sector Boston (COTP), have determined these proposed regulations are necessary to ensure the safety of the `Sail Boston' participants and spectators, and their vessels while operating in and around the Port of Boston before, during, and after the scheduled events are completed. The Coast Guard is proposing this rulemaking under authorities in 33 U.S.C. 2071; 46 U.S.C. 70006, 70034, 70041, 70051, 70124; 33 CFR 1.05-1, 6.04-1, 6.04-6, and 160.5; Department of Homeland Security Delegation No. 00170.1, Revision No. 01.4.

III. Discussion of Rule

The proposed regulations would create temporary spectator areas, vessel movement control measures, security zones around foreign naval vessels, and safety zones around each Tall Ship while anchored, transiting and moored in various berths in Boston Harbor. Additionally, these proposed regulations would temporarily suspend certain anchorage grounds. The proposed regulations would only be subject to enforcement at various specified times between July 10th, 2026, through July 16th, 2026.

Based on the latest Sail Boston event schedule, we are proposing regulations which, combined, would establish:

1. A 100-yard safety zone surrounding each participating Tall Ship while anchored in Broad Sound on July 10 and 11,

2. A safety zone surrounding each participating Tall Ship during the inbound `Parade of Sail' on July 11,

3. Special local regulations (SLR) with Temporary Spectator Zones for viewing the `Sail Boston Tall Ship Parade of Sail' on July 10 and 11 and vessel movement control measures in effect July 11 through July 16.

4. A Naval Force Protective Zone will be enforced around all U.S Navy vessels, while transiting or moored at the Flynn Cruise Port Terminal and various berths in Boston Harbor July 11 through July 16.

5. A security zone around each visiting foreign Naval Vessel from July 11 through July 16.

6. A 25-yard Safety Zone established around all moored tall ships.

Additional information about the special local regulations (SLRs), anchorage grounds, security zones and safety zones follows.

Special Local Regulations (33 CFR 100.T0199-0707)

As an organized water event of limited duration which is conducted according to a prearranged schedule is a “Regatta or marine parade,” as defined at 33 CFR 100.05. The Coast Guard requires an individual or organization planning to hold a regatta or marine parade which, by its nature, circumstances or location, will introduce extra or unusual hazards to the safety of life on the navigable waters of the United States, to submit an application to hold it. 33 CFR 100.15. On November 21, 2023, the event sponsor of the “Sail 250” submitted an application under 33 CFR 100.15 to conduct a parade of tall ships, “Sail 250 America's 250 Maritime Celebrations,” on July 11th, 2026, with participating Tall Ships mooring in various berths throughout the Boston Harbor, Boston, MA, until their departure on July 16th, 2026.

After approving plans for the holding of a regatta or marine parade within his or her district or zone, a COTP is authorized to promulgate such SLRs as he or she deems necessary to ensure safety of life on the navigable waters immediately prior to, during, and immediately after the approved regatta or marine parade per 33 CFR 100.35. Due to the high-profile nature of this event, spectator vessels and support craft will be present, and together, they will certainly cause vessel congestion in Boston Harbor, Boston, MA. To address potential hazards associated with the significant amount of recreational boating traffic this event is expected to draw, the Coast Guard proposes to establish special local regulations that would institute vessel movement control measures and create spectator vessel areas in Boston Harbor that will be in effect during the entirety of the Sail Boston 250, Anniversary event. This temporary SLR, which would be designated as section 100.T0199-0707, is needed to facilitate timely access to maritime and transportation facilities by law enforcement support vessels and to protect the maritime public and participating vessels from possible hazards to navigation associated with dense vessel traffic.

Traffic Pattern

The proposed local regulation for vessel movement control establishes a counterclockwise traffic pattern around Boston Inner Harbor to ensure spectator vessels are following an organized route. A Coast Guard Patrol Commander (PATCOM) will be on-scene to facilitate the smooth flow of boating traffic and minimize traffic disruption on the waterway. A chartlet showing the counterclockwise traffic pattern around Boston Inner Harbor is below in figure 1.

(Figure 1 Chartlet Showing the Counterclockwise Traffic Pattern Around Boston Inner Harbor)

The waterway between the World Trade Center Pier and the Fish Pier is a long, narrow area that does not provide sufficient space for unhindered navigation. With the number of Tall Ships that will be moored in this restricted waterway, there will not be adequate room for additional vessels to safely maneuver within the navigational constraints. As a result, waterside viewing from recreational vessels will be prohibited, and only vessels that are tenants of the Fish Pier and World Trade Center piers will be authorized access.

Spectator Areas

The Coast Guard proposes establishing 13 temporary spectator areas for use by recreational, special use, fishing, and commercial vessels during the arrival of the Tall Ships and naval vessels on July 10, 2026, and the Sail Boston Parade of Sail on July 11, 2026. These would be located in the vicinity of Boston North Channel, Long Island, Deer Island, President Roads, and Boston Inner Harbor. They would be available for use from 6 a.m. on July 10 through 5 p.m. on July 11, 2026.

On July 11, 2026, following the `Parade of Sail,' vessel operators may depart from their respective spectator areas in sequence with the movement and mooring of the final flotilla of tall ships. After the final flotilla of tall ships has passed Castle Island, vessel operators in spectator areas east of Castle Island may depart for locations outside of Boston Harbor. After the final flotilla of tall ships has safely moored, vessel operators would be allowed to depart from the remaining established spectator areas. Vessels transiting through Boston Harbor would be required to proceed in accordance with established vessel movement control measures directed by the COTP or the COTP's representative on scene.

The locations of the temporary spectator areas are shown on chartlets that can be found in the docket.

Temporary Suspension of Anchorage Grounds (33 CFR 110.138)

This proposal includes the temporary suspension of anchorage grounds established at 33 CFR 110.138, (Boston Harbor, Mass.) through a temporary stay of the regulations governing their use. The suspension of these anchorage grounds would be in effect from July 11, 2026, through July 16, 2026, to coincide with the periods that the spectator areas and traffic pattern regulations are temporarily established. The anchorages we propose to suspend are Anchorage 1—Bird Island Anchorage, Anchorage 2—President Roads Anchorage, Anchorage 3—Long Island Anchorage, Anchorage 4—Castle Island Anchorage, and Anchorage 5—Explosive Anchorage.

Safety Zones

The Coast Guard is proposing to establish safety zones in section 165.T01-0707. On July 10, 2026, tall ships participating in the Sail Boston Tall Ship Parade of Sail will rally in Broad Sound. The safety zones would extend out a 100-yard radius of each participating Tall Ship while anchored in Broad Sound. The regulation would be enforced from July 10, 2025, through July 11, 2025.

The Coast Guard is proposing to establish 1,000-yard safety zones ahead and astern and 100-yards on each side of participating Tall Ships, during their transit from their anchorages in Broad Sound to the start of the Tall Ship Parade of Sail and during the Tall Ship Parade of Sail into Boston Harbor. These would be enforced on July 11, 2026.

The Coast Guard is proposing to establish 25-yard safety zones surrounding participating Tall Ships while moored in Boston Harbor because the high density of spectators, combined with the volume of daily deep draft commercial vessel traffic, poses a significant threat to the safety of life and property. The proposed regulations would be in effect from July 11, 2026, through July 16, 2026. These restrictions are intended to minimize the risks associated with the large number of recreational vessels anticipated to be operating within the confines of Boston Inner Harbor during the event.

Security Zone

To protect foreign naval vessels before, during, and after the Sail Boston events, the Coast Guard is proposing to establish a 100-yard security zone in 165.T01-1162 around each foreign naval vessel while it is within the Sector Boston COTP Zone. These would be enforced from 12:01 a.m. July 10, 2025, through 11:59 p.m. on July 16, 2025. The COTP would make notifications of the exact names of the vessels in advance of each enforcement period for the security zone to the local maritime community through the Local Notice to Mariners (LNMs) and Broadcast Notices to Mariners (BNMs). The Northeast Coast Guard District Local Notice to Mariners can be found at: http://www.navcen.uscg.gov.

IV. Regulatory Analyses

We developed this proposed rule after considering numerous statutes and Executive orders related to rulemaking. Below we summarize our analyses based on a number of these statutes and Executive orders

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities for the following reasons.

Although this regulation temporarily suspends certain anchorage grounds, creates spectator areas, imposes traffic control measures, and safety zones and security zones in portions of Boston Harbor, Boston, MA, during the events, vessels needing to depart the temporary spectator areas may do so with permission from the COTP's designated on-scene representative and vessels will have sufficient transit room around the outer edge of the designated spectator areas. The traffic control measures are confined to areas of minimal distance, they follow the natural flow of Boston Harbor, Boston, MA, traffic, they are in compliance with the navigational rules of the road, and crossovers have been established for vessels wanting to change direction. The 25-yard safety zone around participating Tall Ships while moored will have no impact to vessel movement in Boston, Harbor, Boston, MA, and will only be in place during the five days of Sail Boston 250th Anniversary activities. Sail250®, Inc. over the past 6 months has held multiple public meetings discussing Sail Boston 250, 2026, events and during each meeting, these proposals have been discussed. An extensive advance notice will be made to mariners via appropriate means, which may include broadcast notice to mariners, local notice to mariners, marine safety information bulletin, local Port Operators Group meetings, Harbor Safety Committee meetings, the internet, USCG Sector Boston Facebook web page, handouts, and local newspapers and media. The advance notice will permit mariners to adjust their plans accordingly. Similar restrictions were established for other Sail Boston events in 1992, 2000, 2009, 2017, and War of 1812 in 2012. Based upon the Coast Guard's experiences from those previous events of similar magnitude, these proposed regulations have been narrowly tailored to impose the least impact on maritime interests while providing the necessary level of safety.

B. Collection of Information

This proposed rule will not call for a new collection of information under the Paperwork Reduction Act of 1995 (44 U.S.C. 3501-3520).

C. Federalism and Indian Tribal Governments

We have analyzed this proposed rule under Executive Order 13132, Federalism, and have determined that it is consistent with the fundamental federalism principles and preemption requirements described in that Order.

Also, this proposed rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this proposed rule will not result in an annual expenditure of $100,000,000 or more (adjusted for inflation) by a State, local, or tribal government, in the aggregate, or by the private sector.

E. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This proposed rule involves temporarily suspending permanent anchorages, proposing temporary spectator areas and vessel traffic control measures to facilitate the safety of all spectator and participant vessels in the Sail Boston 250 Tall Ship Parade of Sail and events. It is categorically excluded from further review under paragraphs L59(b), L60(a), and L61. A Record of Environmental Consideration supporting this determination is available in the docket.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments at https://www.regulations.gov. To do so, go to https://www.regulations.gov, type USCG-2025-0707 in the search box and click “Search.” Next, look for this document in the Search Results column, and click on it. Then click on the Comment option. If you cannot submit your material by using https://www.regulations.gov, call or email the person in the FOR FURTHER INFORMATION CONTACT section of this proposed rule for alternate instructions.

Viewing material in the docket. To view available documents, find the docket as described in the previous paragraph, and then select “Supporting & Related Material” in the Document Type column. We will post public comments in our online docket. Additional information is on the https://www.regulations.gov Frequently Asked Questions web page.

Personal information. We accept anonymous comments. Comments we post to https://www.regulations.gov will include any personal information you have provided. For more about privacy and submissions to the docket in response to this document, see DHS's eRulemaking System of Records notice (85 FR 14226, March 11, 2020).

List of Subjects in 33 CFR Part 100, 110, 165

33 CFR Part 100

Marine safety, Navigation (water), Reporting and recordkeeping requirements, Waterways.

33 CFR Part 110

Anchorages grounds.

33 CFR Part 165

Harbors, Marine safety, Navigation (water), Reporting and record keeping requirements, Security measures, Waterways.

For the reasons discussed in the preamble, the Coast Guard proposes to amend 33 CFR parts 100, 110, and 165 as follows:

PART 100—SPECIAL LOCAL REGULATIONS/REGATTAS AND MARINE PARADES

1. The authority citation for Part 100 continues to read as follows:

Authorities: 46 U.S.C. 70041; 33 CFR 1.05-1.

2. Add § 100.T0199-0707 to read as follows:

§ 100.T0199-0707 Special Local Regulation: Sail Boston 250th, Anniversary 2026; Port of Boston, MA.

(a) Regulated areas: (1) Traffic Pattern Regulated Area—(i) Location. The following area is a special regulation area: All waters of Boston Harbor to include all waters west of a line drawn from the monument at Castle Island in approximate position 42°20′21″ N, 71°00′37″ W, to the Logan Airport Security Zone Buoy “24” in approximate position 42°20′45″ N, 71°00′29″ W, and then to land in approximate position 42°20′48″ N, 71°00′27″ W, including the Reserved Channel to the Summer Street retractile bridge in approximate position 42°20′34″ N, 71°02′11″ W, the Charles River to the Gridley Locks at the Charles River Dam in approximate position 42°22′07″ N, 71°03′40″ W, the Mystic River at the Alford Street Bridge in approximate position 42°23′22″ N, 71°04′16″ W, and the Chelsea River to the McArdle Bridge in approximate position 42°23′09″ N, 71°02′21″ W. All positions are expressed in Degrees (°) Minutes (′) Seconds (″) (DMS) based on the World Geodetic System (WGS 84).

(ii) Traffic Pattern General Regulations.

(A) During the effective period, vessel operators transiting through the regulated area shall proceed in a counterclockwise direction at no wake speeds not to exceed five knots, unless otherwise authorized by the Captain of the Port (COTP).

(B) Vessel operators shall comply with the directions and orders of the COTP or the COTP's representative, upon being hailed by siren, radio, flashing lights, or other means. The COTP's representative may be any Coast Guard commissioned, warrant, or petty officer or any Federal, state, or local law enforcement officer who has been designated by the COTP to act on the COTP's behalf. The COTP's representative may be on a Coast Guard vessel, a Coast Guard Auxiliary vessel, a federal, state or local law enforcement or safety vessel, or a location on shore.

(C) From 4 p.m. on July 11, 2026, through 8 a.m. on July 16, 2026, vessel control measures will be implemented. The traffic pattern will be in a counterclockwise rotation, such that all vessels shall stay generally as far to the starboard side of the channel as is safe and practicable.

(D) To facilitate commercial ferry traffic with minimal disruption, commercial ferries within the regulated area, moving between stops on their normal routes, will be exempt from the mandatory counterclockwise traffic pattern. This exemption does not give ferries navigational precedence or in any way alter their responsibilities under the Rules of the Road or any other pertinent regulations.

(E) Vessel operators who are tenants of the World Tade Center and Fish Pier docks will be allowed access to this portion of the Waterway. Due to the mooring plan for the arriving Tall Ships severely restricting the channels, recreational craft will not be allowed access.

(F) Vessel operators transiting this area must maintain at least a 25-yard safe distance from all participating Sail Boston Tall Ships and must make way for all deep draft vessel traffic underway in the area.

(G) When a vessel greater than 125-feet enters the waterway between the Commonwealth Pier and the Fish Pier, no other vessel will be allowed to enter until the larger vessel departs that area, unless authorized by the on-scene COTP's representative.

(H) From 4 p.m. 11 July through 8:00 a.m. 16 July, while the regulated area is in effect, only vessels which are tenants within the channels of the Commonwealth and the Fish Pier will be authorized access.

(I) The COTP may control the movement of all vessels operating on the navigable waters of Boston Harbor when the COTP has determined that such orders are justified in the interest of safety by reason of weather, visibility, sea conditions, temporary port congestion, or other temporary hazards circumstance.

(J) To obtain permissions required by this regulation, individuals may reach the COTP or a COTP representative via VHF channel 16 or 833-449-0593 (Sector Boston Command Center).

(iii) Penalties. Those who violate this section are subject to the penalties set forth in 46 U.S.C. 70036 and 46 U.S.C. 70052.

(iv) Enforcement Period. This section will be enforced from 11:59 p.m. on July 10, 2026, through 4 p.m. on July 16, 2026, unless otherwise noted. Readers should refer to paragraph (a)(1)(ii) of this section for additional information on specific enforcement times and locations

(2) Spectator areas. (i) Locations and regulations—

(A) Spectator Area 1—All waters bounded by the following coordinates: 42°22′06″ N/071°02′43″ W, 42°22′11″ N/071°02′39″ W, 42°22′07″ N/071°02′32″ W, and 42°22′03″ N/071°02′35″ W.

This spectator area is designated for the exclusive use of recreational vessels that are 45 feet or less in length and have superstructures that do not exceed 10 feet in height.

(B) Spectator Area 2—All waters bounded by the following coordinates: 42°21′41″ N/071°02′25″ W, 42°21′47″ N/071°02′20″ W, 42°21′35″ N/071°01′53″ W, and 42°21′29″ N/071°01′58″ W.

This spectator area is designated for the exclusive use of recreational vessels that are 45 feet or less in length and have superstructures that do not exceed 10 feet in height.

(C) Spectator Area 3—All waters bounded by the following coordinates: 42°21′26″ N/071°01′51″ W, 42°21′32″ N/071°01′47″ W, 42°21′25″ N/071°01′33″ W, and 42°21′19″ N/071°01′37″ W.

This spectator area is designated for the exclusive use of recreational vessels that are 45-feet or less in length and their height above water does not exceed 50-feet.

(D) Spectator Area 4—All waters bounded by the following coordinates: 42°21′19″ N/071°01′37″ W, 42°21′25″ N/071°01′33″ W, 42°21′09″ N/071°01′02″ W, and 42°21′04″ N/071°01′06″ W.

This spectator area is designated for the exclusive use of inspected and uninspected small passenger vessels (certificated by the Coast Guard under Subchapters T and K of Title 46, Code of Federal Regulations), and charter vessels that do not exceed 50-feet in height above the water line.

(E) Spectator Area 5—All waters bounded by the following coordinates: 42°21′04″ N/071°01′06″ W, 42°21′09″ N/071°01′02″ W, 42°20′48″ N/071°00′29″ W, and 42°20′47″ N/071°00′29″ W.

This spectator area is designated for the exclusive use of inspected and uninspected small passenger vessels (certificated by the Coast Guard under Subchapters T and K of Title 46, Code of Federal Regulations), and charter vessels that do not exceed 50-feet in height above the water line.

(F) Spectator Area 6—All waters bounded by the following coordinates: 42°20′09″ N/070°59′39″ W, 42°20′23″ N/070°59′32″ W, 42°20′19″ N/071°59′17″ W, and 42°20′07″ N/070°59′24″ W.

This spectator area is designated for the exclusive use of recreational vessels.

(G) Spectator Area 7—All waters bounded by the following coordinates: 42°20′06″ N/070°59′23″ W, 42°20′32″ N/070°59′08″ W, 42°20′32″ N/070°58′31″ W, and 42°20′05″ N/070°58′45″ W.

This spectator area is designated for the exclusive use of recreational vessels.

(H) Spectator Area 8—All waters bounded by the following coordinates: 42°20′06″ N/070°58′43″ W, 42°20′35″ N/070°58′28″ W, 42°20′33″ N/070°57′29″ W, and 42°20′05″ N/070°57′31″ W.

This spectator area is designated a Deep Draft and general spectator area, in the event a visiting foreign Naval Vessel is anchored within the zone, a 500-yard Naval Protective Zone will be established prohibiting all vessels from entering the established zone.

(I) Spectator Area 9—(i) All waters bounded by the following coordinates: 42°19′45″ N/070°59′55″ W, 42°19′58″ N/070°59′55″ W, 42°19′57″ N/070°58′47″ W, and 42°19′44″ N/070°58′47″ W.

This spectator area is designated as general transient spectator area for all vessels that do not exceed 50-feet in height above the water line, with no vessel remaining overnight. This spectator area is only applicable from 6 a.m. on July 11, 2026, until 4 p.m. on July 11, 2026.

(J) Spectator Area 10—All waters bounded by the following coordinates: 42°19′44″ N/070°58′44″ W, 42°19′58″ N/070°58′47″ W, 42°19′55″ N/070°57′28″ W, and 42°19′43″ N/070°57′35″ W.

This spectator area is designated for the exclusive use of recreational vessels with no vessel remaining overnight. This spectator area is only applicable from 6 a.m. on July 11, 2026, until 4 p.m. on July 11, 2026.

(K) Spectator Area 11—All waters bounded by the following coordinates: 42°20′30″ N/070°56′30″ W, 42°21′58″ N/070°56′05″ W, and 42°21′32″ N/070°55′27″ W.

This spectator area is designated for the exclusive use of late arriving recreational vessels with no vessel remaining overnight. This spectator area is only applicable from 6 a.m. on July 11, 2026, until 4 p.m. on July 11, 2026.

(L) Spectator Area 12—All waters bounded by the following coordinates: 42°20′07″ N/070°56′28″ W, 42°21′43″ N/070°54′51″ W, 42°21′18″ N/070°54′29″ W, and 42°20′05″ N/070°55′51″ W.

This spectator area is designated for the exclusive use of late arriving recreational vessels with no vessel remaining overnight. This spectator area is only applicable from 6 a.m. on July 11,2026, until 4 p.m. on July 11, 2026.

(M) Spectator Area 13—All waters bounded by the following coordinates: 42°19′55″ N/070°56′40″ W, 42°20′06″ N/070°56′28″ W, 42°20′05″/070°55′51″ W, and 42°19′51″ N/070°56′05″ W.

This spectator area is designated for the exclusive use of inspected and uninspected small passenger vessels (certificated by the Coast Guard under Subchapters T and K of Title 46, Code of Federal Regulations), and charter vessels with no vessel remaining overnight. This spectator area is only applicable from 6 a.m. on July 11, 2026, until 4 p.m. on July 11, 2026.

(ii) Spectator Area General regulations. The spectator area designated in paragraphs (2)(i)(A) through (M) of this section are expressed in Degrees (°) Minutes (′) Seconds (″) (DMS) based on the World Geodetic System (WGS 84), and subject to the following regulations:

(A) General Operational Requirements for all spectator areas. Vessel operators using any of the spectator areas established in this section shall:

(1) Ensure their vessels remain safely within the spectator area during marine events.

(2) Vessel operators shall comply with the directions and orders of the COTP or the COTP's representatives, upon being hailed by siren, radio, flashing lights, or other means. The COTP's representative may be any Coast Guard commissioned, warrant, or petty officer or any Federal, state, or local law enforcement officer who has been designated by the COTP to act on the COTP's behalf. The COTP's representative may be on a Coast Guard vessel, a Coast Guard Auxiliary vessel, a federal, state, or local law enforcement or safety vessel, or a location on shore.

(3) Vacate spectator areas after termination of their effective periods.

(4) Buoy with identifiable markers and release anchors fouled on lobster trap lines if such anchors cannot be freed or raised.

(5) All vessels are required to exhibit appropriate anchoring lights as prescribed by the Rules of the Road (COLREGS) while at anchor

(6) Do not leave vessels unattended in any spectator area at any time.

(7) Do not tie off to any aid to navigation or buoy.

(8) Maintain at least 20 feet of clearance when maneuvering between vessels.

(9) Do not nest, raft, or tie off to other vessels in spectator areas.

(10) Based on COTP approval and direction, vessels commercially engaged in the collection and legal disposal of marine sewage may operate within spectator areas during the applicable periods.

Note 1 to § 100.T0199-0707: CAUTION: Mariners are cautioned that the areas designated as spectator areas in this section have not been subject to any special survey or inspection and that charts may not show all seabed obstructions or the shallowest depths. In addition, if you decide to anchor, spectator areas are in areas of substantial currents, and not all spectator areas are over good holding ground. Mariners are advised to take appropriate precautions when using these temporary spectator areas.

Note 2 to § 100.T0199-0707: NO-DISCHARGE ZONE: Boston Harbor, MA, located in EPA Region 01, is a No-Discharge Zone. No Discharge Zones prohibit the discharge of sewage from vessels to protect water quality. Mariners are warned they cannot discharge any treated or untreated sewage within the designated area and must instead retain it on board and use onshore pump-out facilities to dispose of it later. Additional information on commercial vessels or the location of onshore pump-out facilities dedicated to the collection and legal disposal of marine sewage may be found at https://www.mass.gov/info-details/boat-pumpout-facilities.

PART 110—ANCHORAGE REGULATIONS

1. The authority citation for Part 110 continues to read as follows:

Authorities: 33 U.S.C. 2071; 46 U.S.C. 70006, 70034; 33 CFR 1.05-1; Department of Homeland Security Delegation No. 0170.1, Revision No. 4.

2. Temporarily stay 33 CFR 110.138, (Boston Harbor, Mass.), effective from July 11, 2026, through July 16, 2026.

PART 165—REGULATED NAVIGATION AREAS AND LIMITED ACCESS AREAS

1. The authority citation for Part 165 continues to read as follows:

Authority: 46 U.S.C. 70034, 70051, 70124; 33 CFR 1.05-1, 6.04-1, 6.04-6, and 160.5; Department of Homeland Security Delegation No. 00170.1, Revision No. 01.4.

2. Add § 165.T01-0707 to read as follows:

§ 165.T01-0707 Safety Zone: Sail Boston 250th, Anniversary 2026; Port of Boston, MA.

(a) Location. The following are safety zones (all coordinates are NAD 1983):

(1) All navigable waters from surface to bottom, within a 100-yard radius of each participating Tall Ship while anchored in Broad Sound.

(2) All navigable waters from surface to bottom, within 1000-yards ahead and astern and 100-yards on each side of participating Tall Ships, during their transit from anchorage to mooring.

(3) All navigable waters from surface to bottom, within 25-yards surrounding participating Tall Ships while moored at various locations throughout the Port of Boston.

(b) Regulations. While these safety zones are being enforced, the following regulations, along with those contained in 33 CFR 165.23, apply:

(1) No person or vessel may enter or remain in a safety zone without the permission of the COTP, Sector Boston or the COTP's representative.

(2) Any person or vessel permitted to enter the safety zones shall comply with the directions and orders of the COTP or the COTP's representative. Upon being hailed by siren, radio, flashing lights, or other means, the operator of a vessel within the zone shall proceed as directed. Any person or vessel within the security zone shall exit the zone when directed by the COTP or the COTP's representative.

(3) To obtain permissions required by this regulation, individuals may reach the COTP or a COTP representative via VHF channel 16 or 833-449-0593 (Sector Boston Command Center) to obtain permission.

(4) Penalties. Those who violate this section are subject to the penalties set forth in 46 U.S.C. 70036 and 46 U.S.C. 70052.

(c) COTP Representative. The COTP's representative may be any Coast Guard commissioned, warrant, or petty officer or any Federal, state, or local law enforcement officer who has been designated by the COTP to act on the COTP's behalf. The COTP's representative may be on a Coast Guard vessel, a Coast Guard Auxiliary vessel, a federal, state or local law enforcement or safety vessel, or a location on shore.

(d) Enforcement dates. Paragraph (a) of this section is applicable on July 10, 2026, through June 16, 2026.

3. The authority citation for part 165 continues to read as follows:

Authority: 46 U.S.C. 70034, 70051, 70124; 33 CFR 1.05-1, 6.04-1, 6.04-6, and 160.5; Department of Homeland Security Delegation No. 00170.1, Revision No. 01.4.

4. Add § 165.T01-1162 to read as follows:

§ 165.T01-1162 Security Zones; Sail Boston, 250th Anniversary 2026; Boston Harbor, Boston, MA.

(a) The following areas are established as security zones:

(1) Security Zones for Foreign Naval Vessels.

(i) Location. All navigable waters within Sector Boston Marine Inspection and Captain of the Port Zone as described in 33 CFR 3.05-10 extending from the surface to bottom, within a 100-yard radius of any foreign flag naval vessels.

(ii) Effective and enforcement periods. This section will be effective from 12:01 a.m. July 10, 2026, through 11:59 p.m. on July 16, 2026. The Captain of the Port (COTP) will make notification of the exact names of the vessels in advance of each enforcement period for the security zone to the local maritime community through the Local Notice to Mariners (LNMs) and Broadcast Notices to Mariners (BNMs). The Coast Guard Northeast District Local Notice to Mariners can be found at: http://www.navcen.uscg.gov.

(b) Definitions. As used in this section, designated representative means a Coast Guard Patrol Commander, including a Coast Guard coxswain, petty officer, or other officer operating a Coast Guard vessel and a Federal, State, and local officer designated by or assisting the COTP in the enforcement of the security zone.

Foreign Naval Vessel means any naval vessel of a foreign state, which is not required to be licensed for entry into the U.S. for visit purposes under 22 CFR 126.6, provided it is not undergoing repair or overhaul.

(c) Regulations.

(1) Under the general security zone regulations in subpart C of this part, you may not enter the security zones described in paragraph (a) of this section unless authorized by the COTP or the COTP's designated representative.

(2) To seek permission to enter, contact the COTP or the COTP representative via VHF channel 16 or 833-449-0593 (Sector Boston Command Center) to obtain permission. Those in a security zone must comply with all lawful orders or directions given to them by the COTP or the COTP representative.

M.E. Platt,
Rear Admiral, U.S. Coast Guard, Commander, Coast Guard Northeast District.

[FR Doc. 2026-02724 Filed 2-10-26; 8:45 am]

BILLING CODE 9110-04-P